DEPARTMENT OF LABOR

Employment and Training Administration

Notice of Availability of Funds and Solicitation for Grant Applications for Cooperative Agreements Under the Disability Employment Initiative

AGENCY: Employment and Training Administration, Labor.

Announcement Type: Solicitation for Grant Applications (SGA).

Funding Opportunity Number: SGA/DFA PY-11-11.

SUMMARY: The Employment and Training Administration (ETA), in coordination with Department of Labor's (DOL's) Office of Disability Employment Policy (ODEP), announces the availability of approximately $20 million for a third round of cooperative agreements to state agencies that administer the Workforce Investment Act (WIA) of 1998. These funds provide an opportunity for states to develop and implement a plan for improving effective and meaningful participation of persons with disabilities in the workforce. DOL is using this funding to make six to ten grant awards designed to: (1) Improve educational, training, and employment opportunities and outcomes of youth and adults with disabilities who are unemployed, underemployed, and/or receiving Social Security disability benefits; and (2) help these individuals with disabilities find a path into the middle class through exemplary and model service delivery by the public workforce system. The DOL will award DEI grants for a three-year period of performance.

The complete SGA and any subsequent SGA amendments, in connection with this solicitation are described in further detail on ETA's Web site at http://www.doleta.gov/grants/ or on http://www.grants.gov. The Web sites provide application information, eligibility requirements, review and selection procedures and other program requirements governing this solicitation.

DATES: The closing date for receipt of applications is June 1, 2012.

FOR FURTHER INFORMATION CONTACT: Eileen Banks, 200 Constitution Avenue NW., Room N-4716, Washington, DC 20210; Telephone: 202-693-3403.

Signed April 10, 2012 in Washington, DC
B. Jai Johnson
Grant Officer, Employment and Training Administration.

[FR Doc. 2012-9060 Filed 4-16-12; 8:45 am]

BILLING CODE 4510-FN-P